DEPARTMENT OF COMMERCE

International Trade Administration

[A-427-828]

Certain Carbon and Alloy Steel Cut-to-Length Plate From France: Rescission of Antidumping Duty Administrative Review; 2023-2024

AGENCY: Enforcement and Compliance, International Trade Administration, Department of Commerce.

SUMMARY: The U.S. Department of Commerce (Commerce) is rescinding the administrative review of the antidumping duty (AD) order on certain carbon and alloy steel cut-to-length plate (CTL Plate) from France for the period of review (POR) May 1, 2023, through April 30, 2024.

DATES: Applicable February 19, 2025.

FOR FURTHER INFORMATION CONTACT: Samuel Evans, AD/CVD Operations, Office IX, Enforcement and Compliance, International Trade Administration, U.S. Department of Commerce, 1401 Constitution Avenue NW, Washington, DC 20230; telephone: (202) 482-2420.

SUPPLEMENTARY INFORMATION:

Background

On May 2, 2024, Commerce published in the Federal Register a notice of opportunity to request an administrative review of the AD order on CTL Plate from France.¹ Commerce received timely requests for review of the Order from Dillinger France S.A. (Dillinger France) and the petitioners,² each requesting a review of Dillinger France.³

¹ See Antidumping or Countervailing Duty Order, Finding, or Suspended Investigation; Opportunity To Request Administrative Review and Join Annual Inquiry Service List, 89 FR 35778, 35779 (May 2, 2024); see also Certain Carbon and Alloy Steel Cut-To-Length Plate From Austria, Belgium, France, the Federal Republic of Germany, Italy, Japan, the Republic of Korea, and Taiwan: Amended Final Affirmative Antidumping Determinations for France, the Federal Republic of Germany, the Republic of Korea and Taiwan, and Antidumping Duty Orders, 82 FR 24096 (May 25, 2017) (Order).

² The petitioners are Cleveland-Cliffs Inc., Nucor Corporation, and SSAB Enterprises, LLC.

³ See Dillinger France's Letter, “Request for Administrative Review,” dated May 30, 2024; see also Petitioners' Letter, “Request for Administrative Review,” dated May 31, 2024.

On July 5, 2024, Commerce initiated an administrative review of the AD order on CTL Plate from France covering the POR, in accordance with section 751(a) of the Tariff Act of 1930, as amended (the Act), and 19 CFR 351.221(c)(1)(i).⁴ On July 12, 2024, we placed U.S. Customs and Border Protection (CBP) data on the record for entries of CTL Plate from France during the POR.⁵ On August 26, 2024, Dillinger France reported that it did not have any reviewable entries of subject merchandise during the POR.⁶ On September 4, 2024, we requested that Dillinger France provide additional information regarding its claims, which it timely provided on September 10, 2024.⁷ On October 30, 2024, we placed on the record CBP entry summary documentation which confirms that Dillinger France did not have any reviewable entries of subject merchandise during the POR.⁸

⁴ See Initiation of Antidumping and Countervailing Duty Administrative Reviews, 89 FR 55567, 55570 (July 5, 2024).

⁵ See Memorandum, “Release of Customs and Border Protection Entry Data,” dated July 12, 2024.

⁶ See Dillinger France's Letter, “Response to Section A of the Antidumping Duty Questionnaire,” dated August 26, 2024, at 2-3.

⁷ See Commerce's Letter, “Section A Supplemental Questionnaire,” dated September 4, 2024; see also Dillinger France's Letter, “Response to Supplemental Section A Questionnaire,” dated September 10, 2024.

⁸ See Memorandum, “CBP Entry Summary Documentation,” dated October 30, 2024, at Attachments I to III.

On January 10, 2025, Commerce notified all interested parties of its intent to rescind the instant review because there were no suspended entries of subject merchandise by Dillinger France during the POR, and we invited interested partes to comment.⁹ We did not receive any comments.

⁹ See Memorandum, “Notice of Intent to Rescind Review,” dated January 10, 2025.

Rescission of Review

Pursuant to 19 CFR 351.213(d)(3), it is Commerce's practice to rescind an administrative review of an AD order when there are no entries of subject merchandise during the POR for which liquidation is suspended.¹⁰ Normally, upon completion of an administrative review, the suspended entries are liquidated at the AD assessment rate calculated for the review period.¹¹ Therefore, for an administrative review to be conducted, there must be a suspended entry that Commerce can instruct CBP to liquidate at the AD assessment rate calculated for the review period.¹² As noted above, there were no suspended entries of subject merchandise for the company subject to this review during the POR. Accordingly, in the absence of suspended entries of subject merchandise during the POR, we are hereby rescinding this administrative review, in its entirety, in accordance with 19 CFR 351.213(d)(3).

¹⁰ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4154 (January 24, 2023).

¹¹ See 19 CFR 351.212(b)(1).

¹² See 19 CFR 351.213(d)(3).

Assessment

Commerce will instruct CBP to assess antidumping duties on all appropriate entries. Antidumping duties shall be assessed at rates equal to the cash deposit rate of estimated antidumping duties required at the time of entry, or withdrawal from warehouse, for consumption, in accordance with 19 CFR 351.212(c)(1)(i). Commerce intends to issue appropriate assessment instructions to CBP no earlier than 35 days after the date of publication of this rescission notice in the Federal Register.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of the APO materials, or conversion to judicial protective order is hereby requested. Failure to comply with regulations and terms of an APO is a violation, which is subject to sanction.

Notification to Interested Parties

We are issuing and publishing this notice in accordance with sections 751(a)(1) and 777(i)(1) of the Act, and 19 CFR 351.213(d)(4).

Dated: February 11, 2025.
Scot Fullerton,
Acting Deputy Assistant Secretary for Antidumping and Countervailing Duty Operations.

[FR Doc. 2025-02764 Filed 2-18-25; 8:45 am]

BILLING CODE 3510-DS-P